DEPARTMENT OF COMMERCE

International Trade Administration

[C-570-968]

Aluminum Extrusions From the People's Republic of China: Notice of Correction to Amended Final Results of Countervailing Duty Administrative Review; 2013

AGENCY: Enforcement and Compliance, International Trade Administration, Department of Commerce.

FOR FURTHER INFORMATION CONTACT: Davina Friedmann, Tyler Weinhold or Robert James, AD/CVD Operations, Office VI, Enforcement and Compliance, International Trade Administration, U.S. Department of Commerce, 14th Street and Constitution Avenue NW., Washington, DC 20230; telephone: (202) 482-0698, (202) 482-1121 or (202) 482-0649, respectively.

SUPPLEMENTARY INFORMATION: On March 22, 2016, the Department of Commerce (the Department) published the Amended Final Results of the administrative review of the countervailing duty (CVD) order ¹ on aluminum extrusions from the People's Republic of China (PRC) for the January 1, 2013, through December 31, 2013 period of review (POR).² The Amended Final Results contained an inadvertent error. Specifically, we referenced CVD case number “C-570-068” at the head of the notice. The correct CVD case number is “C-570-968.” As a result, we now correct the Amended Final Results as noted above.

¹ See Aluminum Extrusions from the People's Republic of China: Countervailing Duty Order, 76 FR 30653 (May 26, 2011) (Order).

² See Aluminum Extrusions from the People's Republic of China: Amended Final Results of Countervailing Duty Administrative Review; 2013, 81 FR 15238 (March 22, 2016) (Amended Final Results).

This correction to the Amended Final Results is issued and published in accordance with section 777(i)(1) of the Tariff Act of 1930, as amended.

Dated: May 9, 2016.
Paul Piquado,
Assistant Secretary for Enforcement and Compliance.

[FR Doc. 2016-11735 Filed 5-17-16; 8:45 am]

BILLING CODE 3510-DS-P